Title 3—

The President

Proclamation 10727 of April 10, 2024

Black Maternal Health Week, 2024

By the President of the United States of America

A Proclamation

During Black Maternal Health Week, we recommit to ending the maternal health crisis that is taking the lives of far too many of our Nation's mothers.

Women in America are dying at a higher rate from pregnancy-related causes than women in any other developed nation. Black women face even more risk and are three times more likely to die from pregnancy-related causes than white women. That is in no small part because of a long history of systemic racism and bias. Studies show that when Black women suffer from severe injuries or pregnancy complications or simply ask for assistance, they are often dismissed or ignored in the health care settings that are supposed to care for them. People of color—including expecting mothers—also bear the brunt of environmental injustices like air and water pollution, which worsen health outcomes. Too often, Black mothers lack access to safe and secure housing, affordable transportation, and affordable, healthy food. This is unjust and unacceptable.

That is why my Administration has worked to address this crisis from the very beginning. Vice President Kamala Harris came into office as a key leader on maternal health and continues to fight for improved maternal health outcomes, elevating the issue nationally and convening experts and activists to find solutions. My Administration's first piece of historic legislation—the American Rescue Plan—gave States the option to provide a full year of postpartum coverage to women on Medicaid, increasing it from just 60 days previously. Now, 45 States, Washington, D.C., and the United States Virgin Islands provide a full year of this critical care. We also made coverage under the Affordable Care Act more affordable, saving millions of families an average of $800 per year on health insurance premiums.

My Administration also released the Blueprint for Addressing the Maternal Health Crisis, which outlines actions the Federal Government will take to combat maternal mortality and improve maternal health. To start, we created a new “Birthing-Friendly” hospital designation that highlights hospitals and health systems that offer high-quality maternal care—ensuring that expecting mothers know where to go to get the help they need. To find out which facilities are “Birthing-Friendly,” go to medicare.gov/care-compare/.

Mental health care is health care—it is so important that women have access to it throughout pregnancy and beyond. My Administration launched the Maternal Mental Health Hotline so that the one in five women in America who experience maternal mental health conditions like depression, anxiety, or substance use disorder can get the support they need. New and expecting mothers can call 1-833-TLC-MAMA—a confidential, 24-hour, toll-free number—to connect with professional counselors. Tens of thousands of women have already taken advantage of this valuable hotline, and we know that being able to access support in times of need literally saves lives. Additionally, we are supporting and expanding maternal mental health screening programs, including for postpartum depression. We are partnering with community-based organizations to help pregnant women access services that treat substance use disorder and support victims of domestic violence.

My Administration is working to grow and diversify the maternal health workforce to better serve expecting mothers by helping health care providers hire and train physicians, certified midwives, doulas, and community health workers. I also signed legislation to ensure employers make reasonable accommodations for pregnant and nursing mothers, who deserve job security and to have their workplace rights respected by expanding the use of break time and access to private spaces for millions of nursing parents. I also remain committed to addressing the long-standing inequities that Black communities have faced and that continue to damage the health and wellness of Black mothers. For example, we have been working to end discrimination in housing, make public transit more accessible to everyone no matter where they live, expand access to healthy and affordable food, and tackle dangerous environmental injustices that take the biggest toll on families from communities of color.

There is still so much to do to ensure safety and dignity in pregnancy and childbirth. This week, we extend our gratitude to all the maternal health care workers, who are on the frontlines of this work. Together, I know that we can make America the best country in the world to have a baby.

NOW, THEREFORE, I, JOSEPH R. BIDEN JR., President of the United States of America, by virtue of the authority vested in me by the Constitution and the laws of the United States, do hereby proclaim April 11 through April 17, 2024, as Black Maternal Health Week. I call upon all Americans to raise awareness of the state of Black maternal health in the United States by understanding the consequences of institutional racism; recognizing the scope of this problem and the need for urgent solutions; amplifying the voices and experiences of Black women, families, and communities; and committing to building a world in which Black women do not have to fear for their safety, well-being, dignity, or lives before, during, and after pregnancy.

IN WITNESS WHEREOF, I have hereunto set my hand this tenth day of April, in the year of our Lord two thousand twenty-four, and of the Independence of the United States of America the two hundred and forty-eighth.

[FR Doc. 2024-08063

Filed 4-12-24; 8:45 am]

Billing code 3395-F4-P